DEPARTMENT OF AGRICULTURE

Rural Utilities Service

East River Electric Power Cooperative, Inc., Notice of Finding of No Significant Impact

AGENCY: Rural Utilities Service, USDA.

ACTION: Notice of finding of no significant impact.

SUMMARY: Notice is hereby given that the Rural Utilities Service (RUS) has made a finding of no significant impact in connection with a request from East River Electric Power Cooperative (EREPC) for assistance from RUS to finance the construction of an electrical substation, a short segment of 230kV transmission line, and a communication tower in Lincoln County, South Dakota.

FOR FURTHER INFORMATION CONTACT: Nurul Islam, Environmental Protection Specialist, Rural Utilities Service, Engineering and Environmental Staff, Stop 1571, 1400 Independence Avenue, SW., Washington, DC 20250-1571, telephone (202) 720-1414, Fax (202) 720-0820, e-mail nislam@rus.usda.gov. Information is also available from Mr. Ronald W. Golden, Land Agent, East River Electric Power Cooperative, Inc., 121 Southeast First Street, Madison, South Dakota 5704, telephone (605) 256-4536, Fax (605) 256-8058, e-mail rgolden@eastriver.coop.

SUPPLEMENTARY INFORMATION: East River Electric Power Cooperative (EREPC) proposes to construct an electrical substation, a short segment of 230 kV transmission line and a communication tower in Lincoln County, South Dakota. The proposed Virgil Fodness 230 kV Substation will be located in the southwest corner of the Southeast Quarter (SE1/4) of Section two, Township 99 North, Range 51 West in Lincoln County. The overall height of the communication tower with antenna will be 285 feet. The tower will be a self-supporting type with red obstruction lighting. The existing 230 kV transmission line will be rerouted and it will need the addition of four steel poles. The height of the poles will vary between 95 feet and 145 feet. The facility will require 20 acres to construct. It will make it possible for EREPC to provide transmission and transformation service to meet the increasing power requirements of its member distribution system. RUS may provide financial assistance to EREPC for this project. RUS has concluded that the impacts of the proposed project would not be significant and the proposed action is not a major federal action significantly affecting the quality of the human environment. Therefore, the preparation of an environmental impact statement is not necessary. RUS, in accordance with its environmental policies and procedures, required that EREPC prepare an Environmental Report reflecting the potential impacts of the proposed facilities. The Environmental Analysis, which includes input from federal, state, and local agencies, has been reviewed and accepted as RUS' Environmental Assessment (EA) for the project in accordance with 7 CFR 1794.41. EREPC published notices of the availability of the EA and solicited public comments per 7 CFR 1794.42. The 30-day comment period on the EA for the proposed project ended May 6, 2002. No comments were received on the EA.

Based on the EA, RUS has concluded that the proposed action will not have a significant effect on various resources, including important farmland, floodplains, wetlands, cultural resources, threatened and endangered species and their critical habitat, air and water quality, and noise. RUS has also determined that there would be no negative impacts of the proposed project on minority communities and low-income communities as a result of the construction of the project.

The EA is available for public review at the RUS or the headquarters of EREPC at the addresses provided in this notice and at the following location: Lincoln County Courthouse, County Auditor's Office, 100 East Fifth Street, Canton, South Dakota 57013.

Blaine D. Stockton,
Assistant Administrator, Electric Program, Rural Utilities Service.

[FR Doc. 02-12639 Filed 5-20-02; 8:45 am]

BILLING CODE 3410-15-P